DEPARTMENT OF THE INTERIOR

National Park Service

Notice of Intent to Repatriate Cultural Items: Springfield Science Museum, Springfield, MA

AGENCY: National Park Service, Interior.

ACTION: Notice.

Notice is here given in accordance with the Native American Graves Protection and Repatriation Act (NAGPRA), 25 U.S.C. 3005, Sec. 7, of the intent to repatriate cultural items in the possession of the Springfield Science Museum, Springfield, MA, that meet the definition of “unassociated funerary objects” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

In 1912, 18 shell beads were removed from the Shield’s Mound Complex (Florida site #8DU12), Duval County, FL, by C.B. Moore. These beads were donated the same year to the Springfield Science Museum by Mr. Moore. Accession records indicate that these shell beads were removed from a human burial that also contained a projectile point. Neither the human remains nor the projectile point were donated to the museum.

Consultation with the Florida State archaeologist revealed that pottery dating to the St. Johns I and II periods was recovered from the Shield’s Mound Complex site indicating that the site likely dates from 500 B.C. to A.D. 1562. An assessment of these cultural items has been made by the staff of the Springfield Science Museum in consultation with representatives of the Miccosukee Tribe of Indians of Florida and the Seminole Tribe of Florida, Dania, Big Cypress, Brighton, Hollywood & Tampa Reservations. The Shield’s Mound Complex is located within the territory historically occupied by the Miccosukee and has been identified as an earlier occupation area by representatives of the Miccosukee Tribe of Indians of Florida.

Officials of the Springfield Science Museum have determined that, pursuant to 25 U.S.C. 3001, Sec. 2 (3)(B), these cultural items are reasonably believed to have been placed with or near individual human remains at the time of death or later as part of the death rite or ceremony and are believed, by a preponderance of the evidence, to have been removed from a specific burial site of an Native American individual. Officials of the Springfield Science Museum also have determined that, pursuant to 25 U.S.C. 3001, Sec. 2 (2), there is a relationship of shared group identity that can be reasonably traced between these unassociated funerary objects and the Miccosukee Tribe of Indians of Florida.

Representatives of any other Indian tribe that believes itself to be culturally affiliated with these unassociated funerary objects should contact David Stier, Director, Springfield Science Museum, 220 State Street, Springfield, MA 01103, telephone (413) 263-6800, extension 321, before April 14, 2003. Repatriation of these unassociated funerary objects to the Miccosukee Tribe of Indians of Florida may proceed after that date if no additional claimants come forward.

The Springfield Science Museum is responsible for notifying the Miccosukee Tribe of Indians of Florida and the Seminole Tribe of Florida, Dania, Big Cypress, Brighton, Hollywood & Tampa Reservations that this notice has been published.

Dated: December 12, 2002.
John Robbins,
Assistant Director, Cultural Resources Stewardship and Partnerships.

[FR Doc. 03-6218 Filed 3-13-03; 8:45 am]

BILLING CODE 4310-70-S